DEPARTMENT OF COMMERCE

Census Bureau

Agency Information Collection Activities; Submission to the Office of Management and Budget (OMB) for Review and Approval; Comment Request; National Sample Survey of Registered Nurses

AGENCY: Census Bureau, Department of Commerce.

ACTION: Notice of information collection, request for comment.

SUMMARY: The Department of Commerce, in accordance with the Paperwork Reduction Act (PRA) of 1995, invites the general public and other Federal agencies to comment on proposed, and continuing information collections, which helps us to assess the impact of our information collection requirements and minimize the public's reporting burden. The purpose of this notice is to allow for 60 days of public comment on the proposed reinstatement, with change, of National Sample Survey of Registered Nurses (NSSRN), prior to the submission of the information collection request (ICR) to OMB for approval.

DATES: To ensure consideration, comments regarding this proposed information collection must be received on or before June 17, 2025.

ADDRESSES: Interested persons are invited to submit written comments by email addp.nssrn@census.gov. Please reference National Sample Survey of Registered Nurses (NSSRN) in the subject line of your comments. You may also submit comments, identified by Docket Number USBC-2025-0003, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Brian Lester, Assistant Survey Director (301) 763-4396, and brian.d.lester@census.gov.

SUPPLEMENTARY INFORMATION:

I. Abstract

The National Sample Survey of Registered Nurses, which is sponsored by the National Center for Health Workforce Analysis (NCHWA) under the Health Resources Services Administration (HRSA) at the U.S. Department of Health and Human Services, is conducted to assist in fulfilling the Congressional mandates of the Public Health Service Act. Under 42 U.S.C. 294n(b)(2)(A), the Secretary of Health and Human Services (the Secretary) must establish a National Center for Health Workforce Analysis responsible for the development of information describing and analyzing the health care workforce and workforce-related issues, as well as to provide necessary information for decision-making regarding future directions in health professions and nursing programs in response to societal and professional needs. Additionally, 42 U.S.C 295k(a)-(b) requires the Secretary to establish “a program, including a uniform health professions data reporting system, to collect, compile, and analyze data on health professions personnel” which may be expanded to include, whenever determined necessary by the Secretary, “the collection, compilation, and analysis of data . . . health care administration personnel, nurses, allied health personnel . . . in States designated by the Secretary to be included in the program.” The NSSRN is designed to obtain the necessary data to determine the characteristics and distribution of Registered Nurses (RNs) throughout the United States, as well as emerging patters in their employment characteristics. These data will provide the means for the evaluation and assessment of these evolving characteristics, educational qualifications, and career employment patterns of RNs, consistent with the goals of congressional mandates of the Public Health Service Act found in 42 U.S.C. 294n(b)(2)(A) and 295k(a)-(b). Such data is particularly important to understand workforce issues faced by Registered Nurses given the dynamic change in the RN population and the transformation of the healthcare system in recent years.

NSSRN is seeking clearance to make the following changes:

• Revised questionnaire content—there are modifications to the questionnaire which include removing items, modifying existing items, and adding new content for the 2026 NSSRN. Questionnaire relating to the coronavirus pandemic have been removed, as have redundant and unneeded open-ended response options. Explanatory help text is added where needed. Additional questions related to teaching/precepting nurses and nursing burnout are added for 2026. New content has been cognitively tested. The final set of proposed new and modified content will be included in the full OMB ICR for the 2026 NSSRN.

From the prior cycle of the NSSRN, using American Association for Public Opinion Research definitions of response, we expect the 2026 NSSR to achieve a 50% response rate.

II. Method of Collection

All 125,000 RNs will receive an initial invitation letter with instructions on how to complete the questionnaire via the web. Ninety percent of the sampled RNs will receive a $5 unconditional monetary incentive with the initial invitation. No additional incentives are planned for subsequent follow-up mailings.

Following the initial invitation letter, two additional web invitations, two reminder pressure sealed postcards, and one paper questionnaire mailing will be sent. Similar to previous rounds of the survey, the 2026 NSSRN will employ a Telephone Questionnaire Assistance (TQA) line. TQA staff will not only be able to answer respondent questions and concerns regarding the survey but will also be able to collect survey responses over the telephone using administrative access to the web instrument per respondent request.

III. Data

OMB Control Number: 0607-1002.

Form Number(s): NSSRN.

Type of Review: Regular submission, Request for a Revision of a Currently Approved Collection.

Affected Public: Nursing populations, researchers, policy makers.

Estimated Number of Respondents: 62,500.

Estimated Time per Response: 30 minutes.

Estimated Total Annual Burden Hours: 31,250.

Estimated Total Annual Cost to Public: $0.

Respondent's Obligation: Voluntary.

Legal Authority: Census Authority: 13 U.S.C 8(b).

HRSA Authority: Public Health Service Act, 42 U.S.C. 294n(b)(2)(A) and 42 U.S.C. 295k(a)-(b).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-06678 Filed 4-17-25; 8:45 am]

BILLING CODE 3510-07-P